ENVIRONMENTAL PROTECTION AGENCY

40 CFR Part 52

[EPA-R06-OAR-2014-0145; FRL-9909-52-Region 6]

Approval and Promulgation of Air Quality Implementation Plans; Louisiana; Clean Data Determination for the Baton Rouge Area for the 2008 Ozone National Ambient Air Quality Standard

AGENCY: Environmental Protection Agency (EPA).

ACTION: Proposed rule.

SUMMARY: The Environmental Protection Agency (EPA) is proposing to find that the Baton Rouge, Louisiana marginal 2008 8-hour ozone nonattainment area is currently attaining the 2008 8-hour National Ambient Air Quality Standard (NAAQS) for ozone. This proposed clean data determination is based upon complete, quality assured, certified ambient air monitoring data that show the area has monitored attainment of the 2008 8-hour ozone NAAQS during the 2011-2013 monitoring period, and continues to monitor attainment of the NAAQS based on preliminary 2014 data.

DATES: Written comments should be received on or before May 15, 2014.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Ms. Ellen Belk, Air Planning Section (6PD-L); telephone (214) 665-2164; email address: belk.ellen@epa.gov.

SUPPLEMENTARY INFORMATION: In the final rules section of this Federal Register, EPA is approving the State's SIP submittal as a direct rule without prior proposal because the Agency views this as a noncontroversial submittal and anticipates no adverse comments. A detailed rationale for the approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: April 1, 2014.
Samuel Coleman,
Acting Regional Administrator, Region 6.

[FR Doc. 2014-08373 Filed 4-14-14; 8:45 am]

BILLING CODE 6560-50-P